DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App. 2, the United States Department of Agriculture announces a meeting of the National Agricultural Research, Extension, Education, and Economics Advisory Board.

DATES: The National Agricultural Research, Extension, Education, and Economics Advisory Board will meet October 27-29, 2003.

The public may file written comments before or up to two weeks after the meeting with the contact person.

ADDRESSES: The meeting will take place at the Washington Court Hotel, 525 New Jersey Avenue, NW., Washington, DC 20001. Written comments from the public may be sent to the Contact Person identified in this notice at: The National Agricultural Research, Extension, Education, and Economics Advisory Board; Research, Education, and Economics Advisory Board Office, Room 344-A, Jamie L. Whitten Building, United States Department of Agriculture, STOP 2255, 1400 Independence Avenue, SW., Washington, DC 20250-2255.

FOR FURTHER INFORMATION CONTACT: Deborah Hanfman, Executive Director, National Agricultural Research, Extension, Education, and Economics Advisory Board; telephone: (202) 720-3684; fax: (202) 720-6199; or e-mail: dhanfman@csrees.usda.gov.

SUPPLEMENTARY INFORMATION: On Monday, October 27, 2003, an orientation session for new Board members will be held from 8:30 a.m. to 10:30 a.m., and at 10:45 a.m. the full Advisory Board will convene for a brief session ending at noon. At noon, Board members will depart for field tours at the Beltsville Human Nutrition Research Center (Agricultural Research Service) and the Expanded Food and Nutrition Education Program (Cooperative Service Research, Education, and Extension Service). Tours, which will be open to the public, are scheduled from 12:45 p.m. to approximately 5 p.m. On Tuesday, October 28, 2003, an Advisory Board meeting and focus session, entitled “Food and Nutrition in Obesity Prevention: Implications for Research and Education,” will begin at 8 a.m. and end at 5:30 p.m. An evening reception and program will be held from 6 p.m. to 7:30 p.m. On Wednesday, October 29, 2003, the focus session will reconvene at 8:30 a.m. and end at noon.

Done at Washington, DC this 10th day of October 2003.
Joseph J. Jen,
Under Secretary, Research, Education, and Economics.

[FR Doc. 03-26449 Filed 10-20-03; 8:45 am]

BILLING CODE 3410-22-P